SECURITIES AND EXCHANGE COMMISSION

[Release No. 34-49049; File No. SR-Amex-2003-103]

Self-Regulatory Organizations; American Stock Exchange, LLC; Order Granting Accelerated Approval to Proposed Rule Change Relating to Issuer Fees

January 9, 2004.

On November 25, 2003, the American Stock Exchange LLC (“Amex” or “Exchange”) filed with the Securities and Exchange Commission (“Commission”), pursuant to Section 19(b)(1) of the Securities Exchange Act of 1034 (“Act”) ¹ and Rule 19b-4 thereunder,² a proposed rule change to amend sections 140, 141, 142, and 144 of the Amex Company Guide to designate as non-refundable the current one-time $5,000 application processing fee, establish a late change of $2,500 payable by issuers whose annual listing fees are more than 60 days past due, and increase fees for listing additional shares. The Exchange further proposed to amend Sections 141 and 142 of the Amex Company Guide to clarify that annual listing fees and additional listing fees do not apply to Nasdaq National Market securities to which the Exchange has extended unlisted trading privileges.

¹ 15 U.S.C. 78s(b)(1).

² 17 CFR 240.19b-4.

The proposed rule change was published for comment in the Federal Register on December 11, 2003.³ The Commission received no comments on the proposal.

³ See Securities Exchange Act Release No. 48886 (December 5, 2003), 68 FR 69095.

The Commission finds that the proposed rule change is consistent with the requirements of the Act and the rules and regulations thereunder applicable to a national securities exchange and, in particular, the requirement of Section 6(b)(4) of the Act that the rules of the Exchange provide for the equitable allocation of reasonable dues, fees, and other charged among its members and issuers and other persons using its facilities.⁴

⁴ 15 U.S.C. 78f(b)(4).

Furthermore, the Commission finds good cause for approving the proposed rule change prior to the thirtieth day after the date of publication of notice thereof in the Federal Register. Specifically, the Commission notes the Exchange has represented that these fee changes are necessary to adequately fund the Exchange's listed equities business and develop value-added services for Amex listed issuers.⁵ The Exchange also represents that it has experienced a surge in listing applications and needs to implement the fee changes in an expeditious manner in order to provide appropriate funding for its application review process.⁶ Accordingly, the Commission finds good cause, consistent with sections 6(b)(4) and 19(b)(2) of the Act,⁷ to approve the proposed rule change on an accelerated basis.⁸

⁵ See SR-Amex-2003-103.

⁶ Telephone conversation between Eric Van Allen, Assistant General Counsel, Amex, and Marisol Rubecindo, Attorney, Division of Market Regulation, Commission, on January 6, 2004.

⁷ 15 U.S.C. 78f(b)(4) and 78s(b)(2).

⁸ In approving this proposed rule change, the Commission has considered its impact on efficiency, competition, and capital formation. 15 U.S.C. 78c(f).

It is therefore ordered, pursuant to section 19(b)(2) of the Act,⁹ that the proposed rule change (File No. SR-Amex-2003-103) be, and hereby is, approved on an accelerated basis.

⁹ 15 U.S.C. 78s(b)(2).

For the Commission, by the Division of Market Regulation, pursuant to delegated authority.¹⁰
¹⁰ 17 CFR 200.30-3(a)(12).
Margaret H. McFarland,
Deputy Secretary.

[FR Doc. 04-1118 Filed 1-16-04; 8:45 am]

BILLING CODE 8010-01-P